DEPARTMENT OF COMMERCE

International Trade Administration

[A-201-853, C-201-854]

Standard Steel Welded Wire Mesh From Mexico: Preliminary Affirmative Determination of Circumvention of the Antidumping Duty and Countervailing Duty Orders; Correction

AGENCY: Enforcement and Compliance, International Trade Administration, Department of Commerce.

ACTION: Notice; correction.

SUMMARY: On September 16, 2025, Commerce published in the Federal Register the preliminary determination of the circumvention inquiry of the antidumping and countervailing duty (AD/CVD) orders on standard steel welded wire mesh (wire mesh) from Mexico. This notice corrects the inadvertent omission of a word in Appendix II. This notice also corrects language in the certification agreement to properly reflect the name of the exporting party.

DATES: Applicable December 19, 2025.

FOR FURTHER INFORMATION CONTACT: Kayden Jenson, Office II, Enforcement and Compliance, International Trade Administration, U.S. Department of Commerce, 1401 Constitution Avenue NW, Washington, DC 20230; telephone: (202) 482-0967.

SUPPLEMENTARY INFORMATION:

Background

On September 16, 2025, Commerce published in the Federal Register the preliminary determination of the circumvention inquiry of the AD/CVD orders on wire mesh from Mexico.¹ In that notice, in Appendix II, we inadvertently omitted a word. Additionally, the certification agreement inadvertently referred to the importing party when it should have referred to the exporting party. This notice corrects both the omitted word in Appendix II and clarifies the language contained in the certification agreement.

¹ See Standard Steel Welded Wire Mesh from Mexico: Preliminary Affirmative Determination of Circumvention of the Antidumping Duty and Countervailing Duty Orders, 90 FR 44635 (September 16, 2025).

Corrections

In the Federal Register of September 16, 2025, in FR Doc 2025-17905, correct the following:

On page 44638, in the third column, in section K, change the following sentence from “(ii) the importer being required to post the antidumping duty cash deposits determined by Commerce; and” to “(ii) the importer being required to post the antidumping duty and countervailing duty cash deposits determined by Commerce; and . . .”

On page 44638, in the second column, in section F, revise the sentence stating “. . . entries produced and/or exported by Deacero S.A.P.I. de CV. . .” to read “. . . entries imported by Deacero USA, Inc . . .”

Also on page 44638, in the second column, in section F, revise the sentence stating “. . .certifications related to entries produced and/or exported by any company other than Deacero S.A.P.I. de CV. . .” to read “. . . certifications related to entries imported by any company other than Deacero USA, Inc. . .”

Notification to Interested Parties

This notice is issued and published in accordance with sections 751(a)(1) and 777(i)(1) of the Tariff Act of 1930, as amended, and 19 CFR 351.221(b)(5).

Dated: December 15, 2025.
Christopher Abbott,
Deputy Assistant Secretary for Policy and Negotiations, performing the non-exclusive functions and duties of the Assistant Secretary for Enforcement and Compliance.

[FR Doc. 2025-23455 Filed 12-18-25; 8:45 am]

BILLING CODE 3510-DS-P